ENVIRONMENTAL PROTECTION AGENCY

[EPA-HQ-OPP-2015-0021; FRL-9955-75]

Pesticide Product Registrations; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before January 12, 2017.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Robert McNally, Biopesticides and Pollution Prevention Division (7511P), main telephone number: (703) 305-7090, email address: BPPDFRNotices@epa.gov; or Michael Goodis, Registration Division (7505P), main telephone number: (703) 305-7090, email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the application summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, EPA seeks information on any groups or segments of the population who, as a result of their location, cultural practices, or other factors, may have atypical or disproportionately high and adverse human health impacts or environmental effects from exposure to the pesticides discussed in this document, compared to the general population.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by EPA on these applications. For actions being evaluated under EPA's public participation process for registration actions, there will be an additional opportunity for public comment on the proposed decisions. Please see EPA's public participation Web site for additional information on this process (http://www2.epa.gov/pesticide-registration/public-participation-process-registration-actions). EPA received the following applications to register pesticide products containing active ingredients not included in any currently registered pesticide products:

1. File Symbol: 432-RLII. Docket ID Number: EPA-HQ-OPP-2016-0581. Applicant: Bayer Environmental Science, 2 T.W. Alexander Dr., Research Triangle Park, NC 27709. Product Name: Bayothrin Technical. Active Ingredient: Insecticide—Transfluthrin at 99%. Proposed Use: Indoor (residential, commercial, and military use) and limited outdoor residential. Contact: RD.

2. File Symbol: 62719-AOI. Docket ID Number: EPA-HQ-OPP-2016-0560. Applicant: Dow AgroSciences LLC, 9330 Zionsville Rd., Indianapolis, IN 46268. Product Name: GF-3206. Active Ingredient: Herbicide—Florpyrauxifen-benzyl at 2.7%. Proposed Use: Rice. Contact: RD.

3. File Symbol: 62719-AOO. Docket ID Number: EPA-HQ-OPP-2016-0560. Applicant: Dow AgroSciences LLC, 9330 Zionsville Rd., Indianapolis, IN 46268. Product Name: GF-3301. Active Ingredient: Herbicide—Florpyrauxifen-benzyl at 26.5%. Proposed Use: Rice and freshwater aquatic vegetation. Contact: RD.

4. File Symbol: 62719-AOT. Docket ID Number: EPA-HQ-OPP-2016-0560. Applicant: Dow AgroSciences LLC, 9330 Zionsville Rd., Indianapolis, IN 46268. Product Name: Rinskor Technical. Active Ingredient: Herbicide—Florpyrauxifen-benzyl at 94.6%. Proposed Use: Rice and freshwater aquatic vegetation. Contact: RD.

5. File Symbol: 62719-TNN. Docket ID Number: EPA-HQ-OPP-2016-0560. Applicant: Dow AgroSciences LLC, 9330 Zionsville Rd., Indianapolis, IN 46268. Product Name: GF-3480. Active Ingredients: Herbicide—Florpyrauxifen-benzyl at 2.13% and Cyhalofop-butyl at 10.64%. Proposed Use: Rice. Contact: RD.

6. File Symbol: 62719-TNR. Docket ID Number: EPA-HQ-OPP-2016-0560. Applicant: Dow AgroSciences LLC, 9330 Zionsville Rd., Indianapolis, IN 46268. Product Name: GF-3565. Active Ingredients: Herbicide—Florpyrauxifen-benzyl at 1.3% and Penoxsulam at 2.1%. Proposed Use: Rice. Contact: RD.

7. File Symbol: 71840-EE. Docket ID Number: EPA-HQ-OPP-2016-0609. Applicant: BASF Corporation, 26 Davis Dr., Research Triangle Park, NC 27709. Product Name: Velifer Fungal Contact Insecticide. Active Ingredient: Insecticide—Beauveria bassiana strain PPRI 5339 at 8.00%. Proposed Use: Greenhouse-grown ornamentals, fruits, vegetables, herbs and spices, and vegetable, fruit, and herb transplants for the consumer market. Contact: BPPD.

8. File Symbol: 71840-ER. Docket ID Number: EPA-HQ-OPP-2016-0609. Applicant: BASF Corporation, 26 Davis Dr., Research Triangle Park, NC 27709. Product Name: Beauveria bassiana strain PPRI 5339 Technical. Active Ingredient: Insecticide—Beauveria bassiana strain PPRI 5339 at 96.0%. Proposed Use: Manufacturing of end-use pesticide products. Contact: BPPD.

9. File Symbol: 73771-RN. Docket ID Number: EPA-HQ-OPP-2016-0578. Applicant: Verdesian Life Sciences U.S., LLC, 1001 Winstead Dr., Suite 480, Cary, NC 27513. Product Name: Calciphite. Active Ingredient: Biochemical Systemic Acquired Resistance (SAR)—Calcium Salts of Phosphorous Acid at 95%. Proposed Use: Biochemical manufacturing-use product. Contact: BPPD.

10. File Symbol: 73771-RR. Docket ID Number: EPA-HQ-OPP-2016-0578. Applicant: Verdesian Life Sciences U.S., LLC, 1001 Winstead Dr., Suite 480, Cary, NC 27513. Product Name: Fungi-Phite Ca. Active Ingredient: Biochemical Systemic Acquired Resistance (SAR)—Calcium Salts of Phosphorous Acid at 40%. Proposed Use: Biochemical end-use product/systemic fungicide. Contact: BPPD.

11. File Symbol: 91197-R. Docket ID Number: EPA-HQ-OPP-2016-0251. Applicant: AFS009 Plant Protection, Inc., 104 T.W. Alexander Dr., Building 18, Research Triangle Park, NC 27709. Product Name: Howler™ Technical. Active Ingredient: Fungicide—Pseudomonas chlororaphis strain AFS009 at 100%. Proposed Use: Manufacturing use. Note: In the Federal Register of May 25, 2016 (81 FR 33251) (FRL-9946-40), EPA announced receipt of applications to register three pesticide products containing the active ingredient Pseudomonas chlororaphis subsp. aurantiaca strain AFS009 (File Symbols 91197-R, 91197-E, and 91197-G). Since that time, the applicant provided additional data on the identity of the active ingredient in these pesticide products to EPA. After reviewing these data, EPA now considers the correct identity of the active ingredient in these pesticide products to be Pseudomonas chlororaphis strain AFS009 and not Pseudomonas chlororaphis subsp. aurantiaca strain AFS009. In order to give the public an opportunity to comment on this new information, EPA is republishing its receipt of these applications with an updated and accurate description. Contact: BPPD.

12. File Symbol: 91197-E. Docket ID Number: EPA-HQ-OPP-2016-0251. Applicant: AFS009 Plant Protection, Inc., 104 T.W. Alexander Dr., Building 18, Research Triangle Park, NC 27709. Product Name: Howler™ T&O. Active Ingredient: Fungicide—Pseudomonas chlororaphis strain AFS009 at 50.0%. Proposed Use: Turf and ornamental plants. Contact: BPPD.

13. File Symbol: 91197-G. Docket ID Number: EPA-HQ-OPP-2016-0251. Applicant: AFS009 Plant Protection, Inc., 104 T.W. Alexander Dr., Building 18, Research Triangle Park, NC 27709. Product Name: Howler™. Active Ingredient: Fungicide—Pseudomonas chlororaphis strain AFS009 at 50.0%. Proposed Use: Agricultural sites, including berries, citrus, cotton, cucurbits, flowers, fruiting vegetables, herbs, leafy vegetables, cole crops, ornamentals, peanut, pome fruit, shade house, soybean, stone fruit, tobacco, tree nuts, tubers, wheat, and turf, and residential sites. Contact: BPPD.

Authority: 7 U.S.C. 136 et seq.

Dated: December 2, 2016.
Robert McNally,
Director, Biopesticides and Pollution Prevention Division, Office of Pesticide Programs.

[FR Doc. 2016-29887 Filed 12-12-16; 8:45 am]

BILLING CODE 6560-50-P